DEPARTMENT OF THE INTERIOR

Geological Survey

[GX19GC009PLFM00]

Public Meeting of the National Cooperative Geologic Mapping Program (NCGMP) and National Geological and Geophysical Data Preservation Program (NGGDPP) Advisory Committee

AGENCY: U.S. Geological Survey, Interior.

ACTION: Notice of public meeting.

SUMMARY: In accordance with the Federal Advisory Committee Act of 1972, the U.S. Geological Survey (USGS) is publishing this notice to announce that a Federal Advisory Committee meeting of the NCGMP and NGGDPP will take place.

DATES: The meeting will be held on Thursday, October 31, 2019, via teleconference, specific time of meeting to be determined.

ADDRESSES: The meeting will be hosted by the USGS via teleconference. For teleconference details, please refer to the contact information below.

FOR FURTHER INFORMATION CONTACT: Michael J. Marketti, U.S. Geological Survey, 12201 Sunrise Valley Drive, Mail Stop 908, Reston, VA 20192, or by email at mmarketti@usgs.gov.

SUPPLEMENTARY INFORMATION: This meeting is being held under the provisions of the Federal Advisory Committee Act of 1972 (5 U.S.C., Appendix, as amended), the Government in the Sunshine Act of 1976 (5 U.S.C. 552B, as amended), and 41 CFR 102-3.140 and 102-3.150.

Purpose of the Meeting: The NCGMP and NGGDPP Federal Advisory Committee will meet to hear updates on progress of the NCGMP towards fulfilling the purposes of the National Geologic Mapping Act of 1992, as well as updates on the NGGDPP towards fulfilling the purposes of the Energy Policy Act of 2005. The Committee, comprising of representatives from Federal agencies, state agencies, academic institutions, and private companies, shall advise the Director of the U.S. Geological Survey on planning and implementation of the geologic mapping and data preservation programs.

Agenda: Introductions/NGGDPP recap/NGGDPP recommendations and discussion/NCGMP recap/NCGMP recommendations and discussion/other topics to be determined.

Meeting Accessibility/Special Accommodations: The meeting is open to the public. Members of the public wishing to attend the meeting via teleconference/webcast should contact Michael J. Marketti by email at mmarketti@usgs.gov to register no later than three (3) business days prior to the meeting. Individuals requiring special accommodations to access the public meeting should contact Michael J. Marketti at the email stated above or by telephone at 703-648-6976 at least five (5) days prior to the meeting so that appropriate arrangements can be made.

Public Disclosure of Comments: Time will be allowed at the meeting for any individual or organization wishing to make oral comments. To allow for full consideration of information by the committee members, written notice must be provided to Michael J. Marketti, U.S. Geological Survey, 12201 Sunrise Valley Drive, Mail Stop 908, Reston, VA 20192; by email at mmarketti@usgs.gov; or by telephone at 703-648-6976, at least three (3) days prior to the meeting. Any written comments received will be provided to the committee members.

Before including your address, phone number, email address, or other personal identifying information in your comment, please be aware that your entire comment—including your personal identifying information—may be made publicly available at any time and there is no guarantee of privacy.

John Brock,
USGS NCGMP Program Coordinator.

[FR Doc. 2019-22558 Filed 10-15-19; 8:45 am]

BILLING CODE 4338-AM-P